Title 3—

The President

Proclamation 8038 of July 27, 2006

50th Anniversary of Our National Motto, “In God We Trust,” 2006

By the President of the United States of America

A Proclamation

On the 50th anniversary of our national motto, “In God We Trust,” we reflect on these words that guide millions of Americans, recognize the blessings of the Creator, and offer our thanks for His great gift of liberty.

From its earliest days, the United States has been a Nation of faith. During the War of 1812, as the morning light revealed that the battle-torn American flag still flew above Fort McHenry, Francis Scott Key penned, “And this be our motto: `In God is our trust!' ” His poem became our National Anthem, reminding generations of Americans to “Praise the Power that hath made and preserved us a nation.” On July 30, 1956, President Dwight Eisenhower signed the law officially establishing “In God We Trust” as our national motto.

Today, our country stands strong as a beacon of religious freedom. Our citizens, whatever their faith or background, worship freely and millions answer the universal call to love their neighbor and serve a cause greater than self.

As we commemorate the 50th anniversary of our national motto and remember with thanksgiving God's mercies throughout our history, we recognize a divine plan that stands above all human plans and continue to seek His will.

NOW, THEREFORE, I, GEORGE W. BUSH, President of the United States of America, do hereby proclaim July 30, 2006, as the 50th Anniversary of our National Motto, “In God We Trust.” I call upon the people of the United States to observe this day with appropriate programs, ceremonies, and activities.

IN WITNESS WHEREOF, I have hereunto set my hand this twenty-seventh day of July, in the year of our Lord two thousand six, and of the Independence of the United States of America the two hundred and thirty-first.

B

[FR Doc. 06-6643

Filed 7-31-06; 8:45 am]

Billing code 3195-01-P